DEPARTMENT OF COMMERCE

National Telecommunications and Information Administration

Assessment of the Transition of the Technical Coordination and Management of the Internet's Domain Name and Addressing System

AGENCY: National Telecommunications and Information Administration, U.S. Department of Commerce.

ACTION: Notice, Ex Parte Clarification.

SUMMARY: On April 24, 2009, the National Telecommunications and Information Administration (NTIA) published a Notice in the Federal Register on the Assessment of the Transition of the Technical Coordination and Management of the Internet's Domain Name and Addressing System (Docket No. 090420688-968-01). This Notice provides clarification regarding ex parte procedures associated with this public comment process, specifically as it relates to members of Congress, their staff, foreign government officials and officials of intergovernmental organizations.

ADDRESSES: U.S. Department of Commerce, National Telecommunications and Information Administration, 1401 Constitution Avenue, N.W., Washington, DC 20230.

FOR FURTHER INFORMATION CONTACT: Fiona M. Alexander (202) 482-1866 or falexander@ntia.doc.gov.

SUPPLEMENTARY INFORMATION: On April 24, 2009, the National Telecommunications and Information Administration (NTIA) published a Notice in the Federal Register seeking comment regarding the upcoming expiration of the Joint Project Agreement (JPA) with the Internet Corporation for Assigned Names and Numbers (ICANN). 74 Fed. Reg. 18,688 (April 24, 2009). This agreement has been in existence since November 25, 1998, and is scheduled to expire on September 30, 2009.

As stated in the Notice, any oral presentation to NTIA regarding the substance of this proceeding will be considered an ex parte presentation, and the substance of the discussion will be placed on the public record and become a part of this docket. No later than two (2) business days after an oral presentation or meeting, an interested party must submit a memorandum to NTIA, which summarizes the substance of the communication. Any written presentations provided in support of the oral communication or meeting also will be placed on the public record and become a part of this docket.

Meetings and other interactions with members of Congress, their staff, foreign governmental officials or with officials of intergovernmental organizations regarding matters within the scope of this proceeding (including the expiration of the JPA) shall not be considered ex parte communications, which trigger the reporting requirements set forth above. The issues that are the subject of this proceeding, by their nature, require extensive consultation with foreign government officials/staff and officials/staff of intergovernmental organizations, as well as with officials and staff from other Federal agencies, Congress, and the Executive Office of the President. The clarification set forth above accords communications with members of Congress, their staff, foreign governmental officials and officials of intergovernmental organizations the same treatment for ex parte purposes as is accorded communications with officials or staff from any Federal Government agency or the Executive Office of the President.

Dated: June 11, 2009.
Kathy D. Smith,
Chief Counsel, National Telecommunications and Information Administration.

[FR Doc. E9-14201 Filed 6-16-09; 8:45 am]

BILLING CODE 3510-60-S